SECURITIES AND EXCHANGE COMMISSION

[File No. 500-1]

Adrenalina, Affinity Technology Group, Inc., Braintech, Inc., Builders Transport, Incorporated, and Catuity, Inc.; Order of Suspension of Trading

May 10, 2012.

It appears to the Securities and Exchange Commission that there is a lack of current and accurate information concerning the securities of Adrenalina because it has not filed any periodic reports since the period ended September 30, 2008.

It appears to the Securities and Exchange Commission that there is a lack of current and accurate information concerning the securities of Affinity Technology Group, Inc. because it has not filed any periodic reports since the period ended June 30, 2008.

It appears to the Securities and Exchange Commission that there is a lack of current and accurate information concerning the securities of Braintech, Inc. because it has not filed any periodic reports since the period ended September 30, 2009.

It appears to the Securities and Exchange Commission that there is a lack of current and accurate information concerning the securities of Builders Transport, Incorporated because it has not filed any periodic reports since the period ended March 31, 1998.

It appears to the Securities and Exchange Commission that there is a lack of current and accurate information concerning the securities of Catuity, Inc. because it has not filed any periodic reports since the period ended March 31, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 10, 2012, through 11:59 p.m. EDT on May 23, 2012.

By the Commission.
Jill M. Peterson,
Assistant Secretary.

[FR Doc. 2012-11701 Filed 5-10-12; 4:15 pm]

BILLING CODE 8011-01-P